CORPORATION FOR NATIONAL AND COMMUNITY SERVICE

Information Collection; Submission for OMB Review, Comment Request

AGENCY: Corporation for National and Community Service.

ACTION: Notice.

SUMMARY: The Corporation for National and Community Service (hereinafter the “Corporation”), has submitted a public information collection request (ICR) entitled the Senior Corps Grant Application to the Office of Management and Budget (OMB) for review and approval in accordance with the Paperwork Reduction Act of 1995, Public Law 104-13 (44 U.S.C. chapter 35). Copies of this ICR, with applicable supporting documentation, may be obtained by calling the Corporation for National and Community Service, Ms. Angela Roberts, at (202) 606-6822, (aroberts@cns.gov). Individuals who use a telecommunications device for the deaf (TTY-TDD) may call (202) 606-3472 between 8:30 a.m. and 5 p.m. Eastern time, Monday through Friday.

ADDRESSES: Comments may be submitted, identified by the title of the information collection activity, to the Office of Information and Regulatory Affairs, Attn: Ms. Sharon Mar, OMB Desk Officer for the Corporation for National and Community Service, by any of the following two methods within 30 days from the date of publication in the Federal Register:

(1) By fax to: (202) 395-6974, Attention: Ms. Sharon Mar, OMB Desk Officer for the Corporation for National and Community Service; and

(2) Electronically by e-mail to: smar@omb.eop.gov.

SUPPLEMENTARY INFORMATION: The OMB is particularly interested in comments which:

• Evaluate whether the proposed collection of information is necessary for the proper performance of the functions of the Corporation, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology, e.g., permitting electronic submissions of responses.

Comments

A 60-day public comment Notice was published in the Federal Register on December 14, 2010. This comment period ended February 14, 2011. The following summarizes the public comments received from the Notice summary:

(a) Two commenters supported the change and noted that an Executive Summary would add minimal burden to the application process. (b) Five commenters requested more details about the Executive Summary, asking what an Executive Summary is and what information will be required in it. The Executive Summary will ask respondents to summarize the application's contents. The Corporation will provide more details about the Executive Summary at the appropriate time. (c) One commenter indicated that the Corporation underestimated the additional time burden added by the executive summary. The Corporation agrees and has adjusted the estimated time accordingly. (d) One commenter suggested that the Corporation eliminate another part of the application to account for the addition of an Executive Summary. The Corporation believes that the additional burden of an Executive Summary will be minimal, and that the addition will increase the effectiveness and efficiency of the grant review process. Therefore, we do not intend to remove another portion of the application.

Description: The Corporation seeks to renew the current application with one modification. The Corporation will ask applicants to include an Executive Summary to improve the efficiency and effectiveness of the peer review process.

The information collection will otherwise be used in the same manner as the existing application. The Corporation also seeks to continue using the current application until the revised application is approved by OMB. The current application is due to expire on May 31, 2011.

The Senior Corps Grant Application is completed by applicant organizations interested in sponsoring a Senior Corps project. The application is completed electronically using the Corporation's web-based grants management system, eGrants.

Type of Review: Renewal.

Agency: Corporation for National and Community Service.

Title: National Senior Service Corps Grant Application.

OMB Number: 3045-0035.

Agency Number: SF 424-NSSC.

Affected Public: Current and prospective sponsors of National Senior Service Corps Grants.

Total Respondents: 1,350.

Frequency: Annually, with exceptions.

Average Time per Response: Estimated at 17 hours each for 180 first-time respondents; 15.5 hours each for 900 continuation sponsors; 5.5 hours each for 270 revisions.

Estimated Total Burden Hours: 18,495 hours.

Total Burden Cost (capital/startup): None.

Total Burden Cost (operating/maintenance): $4,609.50.

Dated: March 9, 2011.
Erwin Tan,
Director, National Senior Service Corps.

[FR Doc. 2011-6032 Filed 3-14-11; 8:45 am]

BILLING CODE 6050-$$-P